ENVIRONMENTAL PROTECTION AGENCY

[FRL-7272-9]

Motorola 52nd Street Superfund Site, Phoenix, Arizona; Notice of Proposed Administrative Settlement

AGENCY: Environmental Protection Agency.

ACTION: Notice; Request for Public Comment.

SUMMARY: In accordance with the Comprehensive Environmental Response, Compensation and Liability Act of 1980 (CERCLA), as amended, 42 U.S.C 9600 et seq., notice is hereby given that a proposed Agreement and Covenant Not to Sue (Prospective Purchaser Agreement) associated with the Motorola 52nd Street Superfund Site (the Site) was executed by the United States Environmental Protection Agency (EPA) on August 28, 2002. The Prospective Purchaser Agreement would resolve certain potential claims of the United States under sections 106 and 107(a) of CERCLA, 42 U.S.C 9606 and 9607(a), and section 7003 of the Resource Conservation and Recovery Act (RCRA), 42 U.S.C. 6973, against the City of Phoenix, a municipal corporation of the State of Arizona (Phoenix).

Phoenix plans to acquire a parcel of land comprising 0.5 acres within Operable Unit 2 of the Site as part of an expansion of Sky Harbor International Airport. Phoenix plans to use this parcel for aviation-related purposes, including airfields, terminals, parking, airport administrative functions, and air cargo and aircraft maintenance operations. This acquisition is the latest step in the airport expansion begun in 2001, when EPA issued the first Prospective Purchaser Agreement (Docket No. 2000-06) to Phoenix, covering 6 parcels, 22 acres in extent. According to the terms of this proposed Agreement, Phoenix will pay EPA $10,000, will provide access to the parcel to EPA as necessary to accomplish cleanup of the Site and will implement institutional controls on this property if requested by EPA.

For thirty (30) calendar days following the date of publication of this notice, EPA will receive written comments relating to the proposed settlement. If requested prior to the expiration of this public comment period, EPA will provide an opportunity for a public meeting in the affected area. EPA's response to any comments received will be available for public inspection at the U.S. Environmental Protection Agency, 75 Hawthorne Street, San Francisco, California 94105.

DATES: Comments must be submitted on or before October 7, 2002.

ADDRESSES: The proposed Prospective Purchaser Agreement and additional background documents relating to the settlement are available for public inspection at the U.S. Environmental Protection Agency, 75 Hawthorne Street, San Francisco, CA 94105. A copy of the proposed settlement may be obtained from William Keener, Assistant Regional Counsel (ORC-1), Office of Regional Counsel, U.S. EPA Region IX, 75 Hawthorne Street, San Francisco, CA 94105. Comments should reference “City of Phoenix PPA #2, Motorola 52nd Street Site” and “Docket No. 2002-07,” and should be addressed to William Keener at the above address.

FOR FURTHER INFORMATION CONTACT: William Keener, Assistant Regional Counsel (ORC-1), Office of Regional Counsel, U.S. EPA Region IX, 75 Hawthorne Street, San Francisco, CA 94105; phone: (415) 972-3940; fax: (415) 947-3570; e-mail: keener.bill@epa.gov

Dated: August 28, 2002.
Jane Diamond,
Acting Director, Superfund Division, U.S. EPA, Region IX.

[FR Doc. 02-22610 Filed 9-4-02; 8:45 am]

BILLING CODE 6560-50-P